SECURITIES AND EXCHANGE COMMISSION

17 CFR Part 249

[Release No. 33-7424A; 34-38771A; 35-26733A; 39-2354A; IC-22727A]

Amendments to Forms and Schedules To Remove Voluntary Provision of Social Security Numbers

AGENCY: Securities and Exchange Commission.

ACTION: Final rule; technical correction.

SUMMARY: This document makes a technical correction to a form amendment that was published in the Federal Register on July 1, 1997. The Commission adopted revisions to forms and schedules filed under the Securities Act of 1933, the Securities Exchange Act of 1934, related provisions of the Investment Company Act of 1940 and the Public Utility Holding Company Act of 1935, and the Trust Indenture Act of 1939, to eliminate the portion of those forms that requests filers who are natural persons to furnish their Social Security numbers. The 1997 amendment to Form MSD inadvertently omitted the removal of the second of two references to Social Security numbers in the instructions to the form.

DATES: Effective January 30, 2018.

FOR FURTHER INFORMATION CONTACT: Brice Prince, at (202) 551-5777, Division of Trading and Markets, Securities and Exchange Commission, 100 F Street NE, Washington, DC 20549.

SUPPLEMENTARY INFORMATION: We are making a technical correction to Form MSD ¹ under the Exchange Act.²

¹ 17 CFR 249.1100, Form MSD, application for registration as a municipal securities dealer pursuant to rule 15Ba2-1 under the Securities Exchange Act of 1934 or amendment to such application.

² 15 U.S.C. 78a et seq.

List of Subjects in 17 CFR Part 249

Reporting and recordkeeping requirements, Securities.

Text of the Amendments

For the reasons set out above, title 17, chapter II of the Code of Federal Regulations is amended as follows:

PART 249—FORMS, SECURITIES EXCHANGE ACT OF 1934

1. The general authority citation for part 249 continues to read as follows:

Authority: 15 U.S.C. 78a et seq. and 7201 et seq.; 12 U.S.C. 5461 et seq.; 18 U.S.C. 1350; Sec. 953(b), Pub. L. 111-203, 124 Stat. 1904; Sec. 102(a)(3), Pub. L. 112-106, 126 Stat. 309 (2012); Sec. 107, Pub. L. 112-106, 126 Stat. 313 (2012), and Sec. 72001, Pub. L. 114-94, 129 Stat. 1312 (2015), unless otherwise noted.

* * * * *

2. Amend General Instruction M to Form MSD (referenced in § 249.1100), by removing the text “; social security numbers, if furnished, will be used only to assist the Commission in identifying applicants and, therefore, in promptly processing applications” from the end of the third sentence.

Note: The text of Form MSD does not, and the amendments will not, appear in the Code of Federal Regulations.

* * * * *

Dated: January 24, 2018.
Brent J. Fields,
Secretary.

[FR Doc. 2018-01681 Filed 1-29-18; 8:45 am]

BILLING CODE 8011-01-P